DEPARTMENT OF DEFENSE

Office of the Secretary

[Docket ID DoD-2023-OS-0032]

Proposed Collection; Comment Request

AGENCY: Office of the Under Secretary of (OUSD(I&S)), Department of Defense (DoD).

ACTION: 60-Day information collection notice.

SUMMARY: In compliance with the Paperwork Reduction Act of 1995, the OUSD(I&S) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 16, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Michele DeMarion, Defense Counterintelligence and Security Agency (DCSA), 1137 Branchton Road, Boyers, PA 16018, (724) 794-5612 x5274.

SUPPLEMENTARY INFORMATION:

Title; Associated Form; and OMB Number: Freedom of Information/Privacy Act Records Request for Background Investigations; OMB Control Number 0705-0001.

Needs and Uses: This collection is a renewal and revision to the collection under OMB Control Number 0705-0001, Freedom of Information/Privacy Act Records Request for Background Investigations approved in October 2019, when transferred from the Office of Personnel Management, National Background Investigations Bureau (OPM, NBIB) to the DCSA. The purpose of the collection is to enable the DCSA, Freedom of Information and Privacy (FOI/P) Office for Investigations, to locate applicable records and provide the requester responsive records pursuant to the Freedom of Information Act (5 U.S.C. 552), and/or the Privacy Act of 1974 (5 U.S.C. 552a). Authority to collect this information is contained in 5 U.S.C. 552, 5 U.S.C. 552a, 32 CFR 310, and 32 CFR 286.

Affected Public: Individuals and households.

Annual Burden Hours: 841.

Number of Respondents: 10,097.

Responses per Respondent: 1.

Annual Responses: 10,097.

Average Burden per Response: 5 minutes.

Frequency: On occasion.

The Freedom of Information/Privacy Act Records Request for Background Investigations form, is an information collection completed by individuals submitting Freedom of Information Act (FOIA), Privacy Act, and Amendment record requests to DCSA's Freedom of Information and Privacy (FOI/P) Office for Investigations. DCSA's FOIP Office for Investigations utilizes the Freedom of Information/Privacy Act Records Request for Background Investigations to standardize collection of data elements specific to the types of record requests. Current record requests can be submitted to DCSA FOIP Office for Investigations in a format chosen by the requester. Often, requests are missing data elements which require contact with the requester, thereby adding time to the process. Standardization of the process will increase the volume of perfected requests received and strike an appropriate balance between the burden to the public in submitting a request and the DCSA FOIP Office for Investigations being able to fulfill FOIA, Privacy Act, and Amendment requests in an efficient manner.

Dated: April 12, 2023.
Kayyonne T. Marston,
Alternate OSD Federal Register Liaison Officer, Department of Defense.

[FR Doc. 2023-08083 Filed 4-14-23; 8:45 am]

BILLING CODE 5001-06-P